DEPARTMENT OF THE INTERIOR

National Park Service

Notice of Inventory Completion for Native American Human Remains and Associated Funerary Objects in the Possession of the Metropolitan Park District of the Toledo Area, Toledo, OH; Correction

AGENCY: National Park Service, Interior.

ACTION: Notice; correction.

Notice is here given in accordance with the Native American Graves Protection and Repatriation Act (NAGPRA), 25 U.S.C. 3003, of the completion of an inventory of human remains and associated funerary objects in the possession of the Metropolitan Park District of the Toledo Area, Toledo, OH. The human remains and associated funerary objects were removed from Audubon Islands State Nature Preserve, Lucas County, OH.

This notice is published as part of the National Park Service’s administrative responsibilities under NAGRPA, 25 U.S.C. 3003 (d)(3). The determinations within this notice are the sole responsibility of the museum, institution, or Federal agency that has control of the Native American human remains and associated funerary objects. The National Park Service is not responsible for the determinations within this notice.

This notice revises the determination of cultural affiliation in the original notice to include two additional Indian tribes.

In the Federal Register of July 11, 2002, FR Doc. 02-17416, pages 45997-45998, paragraph 9, the last sentence is corrected by substituting the following sentence:

Lastly, officials of the Metropolitan Park District of the Toledo Area have determined that, pursuant to 25 U.S.C. 3001 (2), there is a relationship of shared group identity that can be reasonably traced between the Native American human remains and associated funerary objects and the Grand Traverse Band of Ottawa and Chippewa Indians, Michigan; Little River Band of Ottawa Indians, Michigan; and Ottawa Tribe of Oklahoma.

Paragraph 10 is corrected by substituting the following two paragraphs:

Representatives of any other Indian tribe that believes itself to be culturally affiliated with the human remains and associated funerary objects should contact Gary Horn, Associate Director, Metropolitan Park District of the Toledo Area, 5100 West Central Avenue, Toledo, OH 43615-2100, telephone (419) 535-3050, before August 8, 2003. Repatriation of the human remains and associated funerary objects to the Grand Traverse Band of Ottawa and Chippewa Indians, Michigan; Little River Band of Ottawa Indians, Michigan; and Ottawa Tribe of Oklahoma may proceed after that date if no additional claimants come forward.

The Metropolitan Park District of the Toledo Area is responsible for notifying the Grand Traverse Band of Ottawa and Chippewa Indians, Michigan; Little River Band of Ottawa Indians, Michigan; Little Traverse Band of Odawa Indians, Michigan; Ottawa Tribe of Oklahoma; American Indian Intertribal Association (a nonfederally recognized Indian group); and Walpole Island First Nation (a nonfederally recognized Indian group) that this notice has been published.

Dated: June 17, 2003.
John Robbins,
Assistant Director, Cultural Resources.

[FR Doc. 03-17268 Filed 7-8-03; 8:45 am]

BILLING CODE 4310-70-S